DEPARTMENT OF COMMERCE

International Trade Administration

(A-580-816)

Corrosion-Resistant Carbon Steel Flat Products From Korea: Extension of Time Limits for the Preliminary Results of Antidumping Duty New Shipper Review

AGENCY: Import Administration, International Trade Administration, Department of Commerce.

EFFECTIVE DATE: August 30, 2007.

FOR FURTHER INFORMATION CONTACT: Victoria Cho or George McMahon, AD/CVD Operations, Office 3, Import Administration, International Trade Administration, U.S. Department of Commerce, 14th Street and Constitution Avenue, NW., Washington, DC 20230; telephone: (202) 482-5075 and (202) 482-1167, respectively.

SUPPLEMENTARY INFORMATION:

Background

On March 27, 2007, the Department of Commerce (the Department) published a notice of initiation of a new shipper review of the antidumping duty order on corrosion-resistant carbon steel flat products from Korea covering the period August 1, 2006, through January 31, 2007. See Corrosion-Resistant Carbon Steel Flat Products from Korea: Notice of Initiation of Antidumping Duty New Shipper Review for the period August 1, 2006, through January 31, 2007, 72 FR 14260 (March 27, 2007). The preliminary results are currently due no later than September 17, 2007.

Extension of Time Limit of Preliminary Results

Section 751(a)(2)(B)(iv) of the Tariff Act of 1930, as amended (the Act), requires the Department to issue the preliminary results of a new shipper review within 180 days of the date it was initiated. However, if the Department concludes that the case is extraordinarily complicated, it may extend the 180-day period to 300 days. Based on an allegation filed by the petitioner, we initiated a sales-below-cost investigation on July 6, 2007, and received the response to section D of the questionnaire on August 10, 2007. To allow sufficient time to analyze the sales and cost data and issue supplemental questionnaires, we must extend the time limit to complete the preliminary results of this review. Furthermore, the Department requires additional time to fully analyze the bona fides of Haewon's U.S. shipment, examine its sales processes, and analyze its cost questionnaire responses. Given the complexity of this case, and in accordance with section 751(a)(2)(B)(iv) of the Act, we are extending the time limit for issuing the preliminary results of review until January 15, 2008, which is 300 days after the date of initiation of this review. The deadline for the final results of this review will continue to be 90 days after publication of the preliminary results.

This extension is issued and published in accordance with sections 751(a)(2)(B)(iv) and 777(i)(1) of the Act and 19 CFR 351.214(I)(2).

Dated: August 23, 2007.
Gary Taverman,
Acting Deputy Assistant Secretary for Import Administration.

[FR Doc. E7-17226 Filed 8-29-07; 8:45 am]

BILLING CODE 3510-DS-S